DEPARTMENT OF STATE

[Public Notice: 11909]

Request for Public Comment on the African and Diaspora Young Leaders Forum—U.S.-Africa Leaders Summit

ACTION: Notice; request for comment.

SUMMARY: President Biden will host leaders from across the African continent from December 13-15, 2022, in Washington, DC, for the U.S.-Africa Leaders Summit. The Summit will demonstrate the United States' enduring commitment to Africa and will underscore the importance of U.S.-Africa relations and increased cooperation on shared global priorities. An important component of the Summit's three-day agenda is the African and Diaspora Young Leaders Forum, which will be held on December 13. A full agenda with speakers will be announced in the coming weeks. The Department is requesting self-nominations from the public of exceptional young leaders to participate in the event.

DATES: Nominations are due no later than 12 p.m. ET on November 8, 2022.

ADDRESSES: Please email nominations to diasporaafricasummit@state.gov.

FOR FURTHER INFORMATION CONTACT: Jennifer Goodman, 202-341-1833 in the Bureau of African Affairs at the U.S. Department of State at diasporaafricasummit@state.gov.

SUPPLEMENTARY INFORMATION: As President Biden outlined in the U.S. Strategy Toward Sub-Saharan Africa, our African diaspora is a source of strength. The African and Diaspora Young Leaders Forum will elevate our diaspora engagement to strengthen the dialogue between U.S. officials and the diaspora in the United States and provide a platform for young African and diaspora leaders to fashion innovative solutions to pressing challenges. The Forum will feature breakout sessions on higher education, the creative industries, and environmental equity, utilizing the theme “Amplifying Voices: Building Partnerships That Last.”

The African and Diaspora Young Leaders Forum will be held in person on December 13, 2022. The U.S. Department of State is seeking exceptional young leaders to participate in the event. Ideal participants will be Africans and people of African descent living outside of Africa who are between the ages of 21-35 and actively engaged on issues related to higher education, creative industries, or environmental equity. If you are interested in participating, please send an email to the address listed in the ADDRESSES section above. Please include: your full name, your email address, your preferred breakout session (higher education, creative industries, or environmental equity), and any supporting documents or information that you wish to submit.

Please note that we will not be able to invite all nominated individuals to the Forum and that attendees will need to pay for their own travel and accommodations. Invited individuals will be contacted directly.

All interested parties will receive consideration without regard to race, color, sex, age, national origin, religion, disability, veteran status, sexual orientation, marital status, citizenship, or any other protected status.

Privacy Act Statement

Authorities: The information solicited in this notice is sought pursuant to 5 U.S.C. 301 and 22 U.S.C. 2651a.

Purpose: The information solicited in this notice will be used to facilitate civil society participation in the 2022 African and Diaspora Young Leaders Forum in Washington, DC. The information furnished may also be used to contact applicants for additional outreach opportunities or to request additional information for this application.

Routine Uses: The information you provide in response to this notice may be shared with other federal agencies and the White House. More information on the Routine Uses for the system can be found in the System of Records Notice State-SORN 79, Digital Communications and Outreach.

Disclosure: Providing this information is voluntary. Failure to provide the information requested may result in your inability to participate in the 2022 African and Diaspora Young Leaders Forum in Washington, DC.

Eric Watnik,
Director, The Bureau of African Affairs Office of Public Diplomacy and Public Affairs, Department of State.

[FR Doc. 2022-23660 Filed 10-31-22; 8:45 am]

BILLING CODE 4710-26-P